DEPARTMENT OF COMMERCE

International Trade Administration

[A-428-830]

Notice of Initiation of New Shipper Antidumping Duty Review: Stainless Steel Bar from Germany

AGENCY: Import Administration, International Trade Administration, Department of Commerce.

SUMMARY: The Department of Commerce (“the Department”) has received a request for a new shipper review of the antidumping duty order on Stainless Steel Bar (“SSB”) from Germany published on March 7, 2002 (67 FR 10382). In accordance with section 751(a)(2)(B) of the Tariff Act of 1930, as amended (“the Act”), and 19 CFR 351.214(d), we are initiating an antidumping new shipper review of Schmiedewerke Groditz GmbH (“SWG”).

EFFECTIVE DATE: April 26, 2006.

FOR FURTHER INFORMATION CONTACT: Brandon Farlander or Natalie Kempkey, AD/CVD Operations, Office 1, Import Administration, International Trade Administration, U.S. Department of Commerce, 14th Street and Constitution Avenue, NW., Washington, DC 20230; telephone: (202) 482-0182 or (202) 482-1698, respectively.

SUPPLEMENTARY INFORMATION: The Department received a timely request from SWG, in accordance with 19 CFR 351.214(c), for a new shipper review of the antidumping duty order on SSB from Germany, which has a March anniversary month.

Pursuant to 19 CFR 351.214(b), SWG certified that it is both an exporter and producer of the subject merchandise, that it did not export subject merchandise to the United States during the period of investigation (“POI”) (October 1, 1999, through September 30, 2000), and that it was not affiliated with any exporter or producer who exported the subject merchandise to the United States during the POI. SWG also submitted documentation establishing the date on which the subject merchandise was first entered for consumption, the volume shipped, and the date of its first sale to an unaffiliated customer in the United States.

Scope of the Order

For the purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Initiation of Review

In accordance with section 751(a)(2)(B) of the Act and 19 CFR 351.214(d), we are initiating a new shipper review of the antidumping duty order on SSB from Germany (produced and exported) by SWG. Because we are initiating this new shipper review in the month immediately following the anniversary month, this review covers the period from March 1, 2005, through February 28, 2006, in accordance with 19 CFR 351.214(g)(1)(i)(A). We intend to issue the preliminary results of this review no later than 180 days after the date on which this review is initiated, and the final results within 90 days after the date on which we issue the preliminary results. See section 751(a)(2)(B)(iv) of the Act.

We will instruct U.S. Customs and Border Protection to suspend liquidation of any unliquidated entries of the subject merchandise from SWG and allow, at the option of the importer, the posting, until completion of the review, of a bond or security in lieu of a cash deposit for each entry of the merchandise exported by SWG in accordance with 19 CFR 351.214(e). Because SWG certified that it both produces and exports the subject merchandise, the sale of which is the basis for this new shipper review request, we will permit the bonding privilege only for those entries of subject merchandise for which SWG is both the producer and the exporter.

Interested parties may submit applications for disclosure under administrative protective order in accordance with 19 CFR 351.305 and 351.306.

This initiation and notice are in accordance with section 751(a)(2)(B) of the Act and 19 CFR 351.214(d).

Dated: April 20, 2006.
Stephen J. Claeys,
Deputy Assistant Secretary for Import Administration.

[FR Doc. E6-6285 Filed 4-25-06; 8:45 am]

BILLING CODE 3510-DS-S